DEPARTMENT OF COMMERCE

Foreign-Trade Zones Board

[B-78-2014]

Foreign-Trade Zone (FTZ) 83—Huntsville, Alabama, Notification of Proposed Production Activity, General Electric Company, (Household Refrigerators), Decatur, Alabama

The Huntsville-Madison County Airport Authority, grantee of FTZ 83, submitted a notification of proposed production activity to the FTZ Board on behalf of General Electric Company (GE), located in Decatur, Alabama. The notification conforming to the requirements of the regulations of the FTZ Board (15 CFR 400.22) was received on October 22, 2014.

A separate request for subzone designation at the GE facility was submitted and will be processed under Section 400.31 of the FTZ Board's regulations. The facility is used for the production of household refrigerators. Pursuant to 15 CFR 400.14(b), FTZ activity would be limited to the specific foreign-status materials and components and specific finished products described in the submitted notification (as described below) and subsequently authorized by the FTZ Board.

Production under FTZ procedures could exempt GE from customs duty payments on the foreign status components used in export production. On its domestic sales, GE would be able to choose the duty rate during customs entry procedures that applies to household refrigerators and related parts (free) for the foreign status inputs noted below. Customs duties also could possibly be deferred or reduced on foreign status production equipment.

The components and materials sourced from abroad include: ABS resins; plastic water conduits/fittings/gaskets/grommets/ties/spacers/clips; rubber grommets/o-rings/seals/bumper lids/bumper grommets; self-tapping screws; rivets; steel bolts/screws; metal hinges/brackets/plates; compressors; evaporator fan assemblies; fan blades/housings; parts of refrigerators (actuators, brackets, baseplates, caps, case assemblies, case backs, clips, condenser assemblies, door assemblies, drains, gaskets, gussets, handles, air diverters, housing controls, ice maker assemblies, liners, controls, mullion assemblies, glass shelving, shields); water filters; filter dryers; filter valves; valve and tube assemblies; AC/DC motors; inverters; wiring harnesses; motor starters; electronic AC switches; lamp plugs/sockets; electronic control boards; printed circuit assemblies; lamps; light dispensers; wiring harnesses; and, thermostats (duty rate ranges from free to 6.5%).

Public comment is invited from interested parties. Submissions shall be addressed to the FTZ Board's Executive Secretary at the address below. The closing period for their receipt is December 15, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov or (202) 482-1378.

Dated: October 29, 2014.
Andrew McGilvray,
Executive Secretary.

[FR Doc. 2014-26305 Filed 11-4-14; 8:45 am]

BILLING CODE 3510-DS-P